DEPARTMENT OF ENERGY

Federal Energy Regulatory Commission

Combined Notice of Filings No. 2

Take notice that the Commission has received the following Natural Gas Pipeline Rate and Refund Report filings:

Docket Numbers: RP11-1566-005.

Applicants: Tennessee Gas Pipeline Company.

Description: Tennessee Gas Pipeline Company submits tariff filing per 154.203: Tariff Cleanup FT-BH Min Commodity to be effective 6/1/2011.

Filed Date: 07/13/2011.

Accession Number: 20110713-5157.

Comment Date: 5 p.m. Eastern Time on Monday, July 25, 2011.

Docket Numbers: RP11-59-002.

Applicants: Northwest Pipeline GP.

Description: Northwest Pipeline GP submits tariff filing per 154.203: NWP RP11-59-002 Compliance Filing to be effective 11/13/2010.

Filed Date: 07/15/2011.

Accession Number: 20110715-5079.

Comment Date: 5 p.m. Eastern Time on Wednesday, July 27, 2011.

Docket Numbers: RP11-1566-004.

Applicants: Tennessee Gas Pipeline Company.

Description: Tennessee Gas Pipeline Company submits tariff filing per: Correct June 1 to July 1 to be effective N/A.

Filed Date: 07/18/2011.

Accession Number: 20110718-5000.

Comment Date: 5 p.m. Eastern Time on Monday, August 01, 2011.

Docket Numbers: RP11-2258-001.

Applicants: PetroLogistics Natural Gas Storage, LLC.

Description: PetroLogistics Natural Gas Storage, LLC submits tariff filing per 154.205(b): Amendment Filing to be effective 8/5/2011.

Filed Date: 07/18/2011.

Accession Number: 20110718-5168.

Comment Date: 5 p.m. Eastern Time on Monday, August 01, 2011.

Docket Numbers: RP11-2278-001.

Applicants: Southern LNG Company, LLC.

Description: Southern LNG Company, LLC submits tariff filing per 154.205(b): BG Negotiated Rate—Errata to be effective 8/1/2011.

Filed Date: 07/18/2011.

Accession Number: 20110718-5180.

Comment Date: 5 p.m. Eastern Time on Monday, August 01, 2011.

Docket Numbers: RP11-2231-001.

Applicants: Gulf Crossing Pipeline Company LLC.

Description: Gulf Crossing Pipeline Company LLC submits tariff filing per 154.205(b): Amendment Filing in RP11-2231 to be effective 7/1/2011.

Filed Date: 07/19/2011.

Accession Number: 20110719-5046.

Comment Date: 5 p.m. Eastern Time on Monday, August 01, 2011.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Dated: July 19, 2011.
Nathaniel J. Davis, Sr.,
Deputy Secretary.

[FR Doc. 2011-19348 Filed 7-29-11; 8:45 am]

BILLING CODE 6717-01-P